DEPARTMENT OF LABOR

Office of the Secretary

Submission for OMB Review; Comment Request

July 24, 2003.

The Department of Labor (DOL) has submitted the following public information collection request (ICR) to the Office of Management and Budget (OMB) for review and approval in accordance with the Paperwork Reduction Act of 1995 (Pub. L. 104-13, 44 U.S.C. Chapter 35). A copy of this ICR, with applicable supporting documentation, may be obtained by calling the Department of Labor. To obtain documentation, contact Vanessa Reeves on 202-693-4124 (this is not a toll-free number) or e-Mail: reeves.vanessa2@dol.gov.

Comments should be sent to Office of Information and Regulatory Affairs, Attn: OMB Desk Office for the Employment and Training Administration (ETA), Office of Management and Budget, Room 10235, Washington, DC 20503 (202-395-7316/this is not a toll-free number), within 30 days from the date of this publication in the Federal Register.

The OMB is particularly interested in comments which:

• Evaluate whether the proposed collection of information is necessary for the proper performance of the functions of the agency, including whether the information will have practical utility;

• Evaluate the accuracy of the agency's estimate of the burden of the proposed collection of information, including the validity of the methodology and assumptions used;

• Enhance the quality, utility, and clarity of the information to be collected; and minimize the burden of the collection of information on those who are to respond, including through the use of appropriate automated, electronic, mechanical, or other technological collection techniques or other forms of information technology, e.g., permitting electronic submission of responses.

Agency: Employment and Training Administration.

Type of Review: Extension of currently approved collection.

Title: Statement of Expenditures and Adjustments of Federal Funds for Unemployment Compensation for Federal Employees and Ex-Servicemembers.

OMB Number: 1205-0162.

Affected Public: State, Local, or Tribal govt.

Frequency: Quarterly.

Type of Response: Recordkeeping and Reporting.

Number of Respondent: 53.

Information collection requirements | Annual responses | Average response time (hours) | Annual burden hours
ETA 191 | 53 | 24.00 | 1,272
Total |  |  | 1,272

Total Annualized capital/startup costs: $0.

Total annual costs (operating/maintaining systems or purchasing services): $0.

Description: Federal and military agencies must reimburse the Federal Employees Compensation Account for the amount expended for benefits to former Federal (civilian) employees (UCFE) and ex-servicemembers (UCX). The report informs ETA of the amount to bill each such agency.

Ira L. Mills,
Department Clearance Officer.

[FR Doc. 03-19846 Filed 8-4-03; 8:45 am]

BILLING CODE 4510-30-M